DEPARTMENT OF THE INTERIOR

Bureau of Land Management

[(CA-610-5101-ER-G032) CACA-40467]

Proposed Right-of-Way for an AT&T Corp. Buried Fiber Optic Telecommunications System and Plan Amendment

AGENCY: California Desert District, Bureau of Land Management.

ACTION: Notice of availability of an Environmental Assessment for a fiber optic telecommunications system from Lemesa, Texas to Los Angeles, California.

SUMMARY: In accordance with section 202 of the National Environmental Policy Act of 1969, the Department of Interior, Bureau of Land Management (California Desert District), as lead agency, along with the U.S. Forest Service (Cleveland National Forest ) and U.S. Marine Corps (Camp Pendleton) as cooperating agencies, have prepared an Environmental Assessment for a right-of-way proposed by AT&T Corp. for a buried fiber optic telecommunications line and associated facilities. This system, running from Lamesa, Texas to Los Angeles, California, is called the AT&T NexGen/Core Fiber Optic Telecommunications Project (“Project”). The proposed action, which crosses federal lands in the States of California, Arizona and New Mexico, includes an amendment to the California Desert Conservation Area (CDCA) Plan which, if approved, will allow an exception to construct portions of this project along existing highways instead of within designated utility corridors on federal lands in Riverside, Imperial and San Diego Counties, California.

The proposed Project would consist of five links or points-of-presence (POP) connecting: (1) Lamesa to El Paso, Texas; (2) El Paso to Tucson, Arizona; (3) Tucson to Blythe, California; (4) Blythe to San Diego, California; and (5) San Diego to Los Angeles, California. The purpose being to construct, operate and maintain a buried fiber optic telecommunications system, including signal regeneration or optical amplification stations located every 40-50 miles, between Texas and California.

Copies are available for public review at Bureau of Land Management offices in: Las Cruces, New Mexico; Safford, Tucson, Phoenix and Yuma, Arizona; and Palm Springs, El Centro, and Riverside, California. In addition copies will be available at the Environmental Office of Camp Pendleton as well as the Descanso Ranger District of the Cleveland National Forest. Furthermore, public reading copies may be downloaded from the following website: http://www.ca.blm.gov/cdd/att_nexgen_ea.html.

DATES: Written comments on this document must be submitted or postmarked no later than February 20, 2001.

ADDRESSES: Written comments on this document should be addressed to: Stephen Johnson, Special Projects Manager, BLM California Desert District, 6221 Box Springs Blvd., Riverside, CA 92507.

FOR FURTHER INFORMATION CONTACT: Stephen Johnson, Special Projects Manager, at the above address or by phone at (909) 697-5233.

SUPPLEMENTARY INFORMATION: The project configuration, as proposed and including measures to avoid, minimize, or mitigate impacts on the environment, is being considered along with a “No Project” and “Utility Corridor” alternative. The BLM has been asked to issue rights-of-way for portions of this fiber optic system that cross public lands.

The California portion of this Project, which as proposed includes an exception to the CDCA Plan to construction portions along existing roads instead of within designated utility corridors, begins at the Point of Presence (POP) in Blythe, California, and would travel in a southwesterly direction along Highway 78 and Old Highway 80 through the following city jurisdictions: Blythe, Brawley, El Centro, El Cajon, La Mesa, and San Diego. From San Diego north to Los Angeles the route would primarily parallel the coast traversing the U.S. Marine Corps Camp Pendleton. In addition, the route would pass through large portions of unincorporated areas in Riverside, Imperial and San Diego Counties, and besides public lands administered by the BLM, it would also cross the Descanso Ranger District of Cleveland National Forest, the USMC's Camp Pendleton, as well as the La Posta and Campo Indian Reservations. It would require an urban build through San Diego and Los Angeles, terminating at the POP in Los Angeles, California.

The fiber optic telecommunications system project entails the design and construction of a six-duct conduit system and ancillary facilities to accommodate digital broadband Internet Protocol. Ancillary facilities would include: regeneration stations and Optical Amplification (Op Amp) Stations spaced an average of 50 miles; buried splice boxes placed at 2,500-foot intervals; and marker poles placed 500 feet apart. The Project, as described in the EA, should contribute small to no additional impact to the environment and would operate entirely within previously disturbed and routinely maintained road rights-of-way.

Dated: December 12, 2000.
Alan Stein,
Acting District Manager.

[FR Doc. 00-32205 Filed 12-18-00; 8:45 am]

BILLING CODE 4310-40-M